DEPARTMENT OF ENERGY

Federal Energy Regulatory Commission

[Docket No. RP04-38-001]

Columbia Gas Transmission Corporation; Notice of Compliance Filing

December 18, 2003.

Take notice that on December 15, 2003, Columbia Gas Transmission Corporation (Columbia) tendered for filing as part of its FERC Gas Tariff, Second Revised Volume No. 1, the following tariff sheets, bearing a proposed effective date of November 30, 2003:

Fourth Revised Sheet No. 100

Fourth Revised Sheet No. 105

Sixth Revised Sheet No. 116

Original Sheet No. 116A

Fourth Revised Sheet No. 130

Fifth Revised Sheet No. 166

Seventh Revised Sheet No. 295

Columbia states that on October 31, 2003, it made a filing with the Commission in Docket No. RP04-38 to allow shippers the ability to separate previously combined service agreements. Columbia states that on November 28, 2003, the Commission approved the filing effective November 30, 2003, subject to certain modifications.

Columbia states that copies of its filing have been mailed to all firm customers, interruptible customers and affected state commissions.

Any person desiring to protest said filing should file a protest with the Federal Energy Regulatory Commission, 888 First Street NE., Washington, DC 20426, in accordance with Section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00645 Filed 12-24-03; 8:45 am]

BILLING CODE 6717-01-P